FEDERAL RESERVE SYSTEM

Sunshine Act Meetings

AGENCY: Board of Governors of the Federal Reserve System

TIME AND DATE: 2:00 p.m., Thursday, September 24, 2020

PLACE: Virtual Meeting via Video/Audio Conference

STATUS: Closed

MATTER(S) TO BE CONSIDERED:

1. Personnel Matter.

CONTACT PERSON FOR MORE INFORMATION: Michelle Smith, Director, Division of Board Members at 202-452-2955. For users of Telecommunication Device for the Deaf (TDD) call 202-263-4869.

You may access the Board's website at www.federalreserve.gov for an electronic announcement.

Dated: September 17, 2020.
Ann E. Misback,
Secretary of the Board.

[FR Doc. 2020-20934 Filed 9-17-20; 4:15 pm]

BILLING CODE 6210-01- P